DEPARTMENT OF ENERGY

Federal Energy Regulatory Commission

Combined Notice of Filings

Take notice that the Commission has received the following Natural Gas Pipeline Rate and Refund Report filings:

Filings Instituting Proceedings

Docket Numbers: RP15-1057-000.

Applicants: Destin Pipeline Company, L.L.C.

Description: Section 4(d) rate filing per 154.204: Asset Management Arrangements to be effective 6/13/2015.

Filed Date: 6/12/15.

Accession Number: 20150612-5046.

Comments Due: 5 p.m. ET 6/24/15.

Docket Numbers: RP15-1058-000.

Applicants: Gulf South Pipeline Company, LP.

Description: Section 4(d) rate filing per 154.204: Revise Evergreen Provision for Firm Services to be effective 7/12/2015.

Filed Date: 6/12/15.

Accession Number: 20150612-5074.

Comments Due: 5 p.m. ET 6/24/15.

Docket Numbers: RP15-1059-000.

Applicants: Gulf South Pipeline Company, LP.

Description: Section 4(d) rate filing per 154.204: Neg Rate Agmt Filing (Tenaska 44540) to be effective 6/12/2015.

Filed Date: 6/12/15.

Accession Number: 20150612-5078.

Comments Due: 5 p.m. ET 6/24/15.

Docket Numbers: RP15-1060-000.

Applicants: Tallgrass Interstate Gas Transmission, L.

Description: Section 4(d) rate filing per 154.204: Neg Rate 2015/06/15 Chesapeake to be effective 6/15/2015.

Filed Date: 6/12/15.

Accession Number: 20150612-5182.

Comments Due: 5 p.m. ET 6/24/15.

Docket Numbers: RP15-1061-000.

Applicants: Gulfstream Natural Gas System, L.L.C.

Description: Section 4(d) rate filing per 154.204: Capacity Release Timeline Cleanup to be effective 7/15/2015.

Filed Date: 6/15/15.

Accession Number: 20150615-5092.

Comments Due: 5 p.m. ET 6/29/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP07-34-000.

Applicants: PANHANDLE JOINT PARTIES, Southwest Gas Storage Company, Panhandle Complainants, Panhandle Complainants v. Southwest Gas.

Description: Southwest Gas Storage Company submits its Semi-Annual Compliance Report, for the period May 1, 2014 through October 31, 2014, under RP07-34, et al.

Filed Date: 11/25/14.

Accession Number: 20141125-5393.

Comments Due: 5 p.m. ET 6/19/15.

Docket Numbers: RP07-541-000.

Applicants: Southwest Gas Storage Company.

Description: Southwest Gas Storage Company submits its Semi-Annual Compliance Report, for the period May 1, 2014 through October 31, 2014, under RP07-34, et al.

Filed Date: 11/25/14.

Accession Number: 20141125-5393.

Comments Due: 5 p.m. ET 6/19/15.

Docket Numbers: RP07-34-000.

Applicants: PANHANDLE JOINT PARTIES, Southwest Gas Storage Company, Panhandle Complainants, Panhandle Complainants v. Southwest Gas.

Description: Southwest Gas Storage Company submits its Semi-Annual Compliance Report, for the period November 1, 2014 through April 30, 2015, under RP07-34, et al.

Filed Date: 6/2/15.

Accession Number: 20150602-5191.

Comments Due: 5 p.m. ET 6/19/15.

Docket Numbers: RP07-541-000.

Applicants: Southwest Gas Storage Company.

Description: Southwest Gas Storage Company submits its Semi-Annual Compliance Report, for the period November 1, 2014 through April 30, 2015, under RP07-34, et al.

Filed Date: 6/2/15.

Accession Number: 20150602-5191.

Comments Due: 5 p.m. ET 6/19/15.

Docket Numbers: RP10-896-003.

Applicants: Granite State Gas Transmission, Inc.

Description: Petition of Granite State Gas Transmission, Inc. for Approval of Second Amended Settlement.

Filed Date: 6/11/15.

Accession Number: 20150611-5237.

Comments Due: 5 p.m. ET 6/22/15.

Docket Numbers: RP15-583-000.

Applicants: El Paso Natural Gas Company, L.L.C.

Description: Compliance filing per 154.501: Refund Report in Docket Nos. RP15-583, RP08-426 and RP10-1398.

Filed Date: 6/11/15

Accession Number: 20150611-5070.

Comments Due: 5 p.m. ET 6/23/15.

Docket Numbers: RP15-615-000.

Applicants: El Paso Natural Gas Company, L.L.C.

Description: Compliance filing per 154.501: Refund Report in Docket Nos. RP15-615, RP08-426 and RP10-1398.

Filed Date: 6/11/15.

Accession Number: 20150611-5073.

Comments Due: 5 p.m. ET 6/23/15.

Docket Numbers: RP01-382-025.

Applicants: Northern Natural Gas Company.

Description: Northern Natural Gas Company submits for filing its annual report setting forth the Carlton Resolution buyout and surcharge dollars reimbursed to the Carlton Sourcers on their May Reservation invoices for the 2014-2015 heating season.

Filed Date: 6/1/15.

Accession Number: 20150601-5403.

Comments Due: 5 p.m. ET 6/19/15.

Docket Numbers: RP15-1041-000.

Applicants: Elba Express Company, L.L.C.

Description: 2015 Annual Cashout True-Up Report of Elba Express Company, L.L.C.

Filed Date: 6/1/15.

Accession Number: 20150601-5402.

Comments Due: 5 p.m. ET 6/19/15.

Docket Numbers: RP15-1052-001.

Applicants: Discovery Gas Transmission LLC.

Description: Compliance filing per 154.203: Substitute Order No. 801 Compliance filing (System Map Migration to Web site) to be effective 7/9/2015.

Filed Date: 6/15/15.

Accession Number: 20150615-5128.

Comments Due: 5 p.m. ET 6/29/15.

Docket Numbers: RP15-1053-001.

Applicants: Black Marlin Pipeline Company.

Description: Compliance filing per 154.203: Substitute Order No. 801 Compliance Filing (System Map Migration to Web site) to be effective 7/9/2015.

Filed Date: 6/15/15.

Accession Number: 20150615-5226.

Comments Due: 5 p.m. ET 6/29/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 16, 2015.
Kimberly D. Bose,
Secretary.

[FR Doc. 2015-15486 Filed 6-23-15; 8:45 am]

BILLING CODE 6717-01-P